DEPARTMENT OF TRANSPORTATION

Federal Motor Carrier Safety Administration

[Docket No. FMCSA-2015-0344]

Qualification of Drivers; Exemption Applications; Vision

AGENCY: Federal Motor Carrier Safety Administration (FMCSA), DOT.

ACTION: Notice of applications for exemptions; request for comments.

SUMMARY: FMCSA announces receipt of applications from 30 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before January 7, 2016. All comments will be investigated by FMCSA. The exemptions will be issued the day after the comment period closes.

ADDRESSES: You may submit comments bearing the Federal Docket Management System (FDMS) Docket No. FMCSA-2015-0344 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 30 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Thomas G. Ashbrook

Mr. Ashbrook, 63, has had complete loss of vision in his left eye since childhood. The visual acuity in his right eye is 20/25, and in his left eye, no light perception. Following an examination in 2015, his optometrist stated, “I certify that Tom Ashbrook has sufficient vision to perform the driving tasks required to operate a commercial vehicle with full distance correction.” Mr. Ashbrook reported that he has driven tractor-trailer combinations for 45 years, accumulating 3.6 million miles. He holds a Class A CDL from New York. His driving record for the last 3 years shows no crashes and no convictions for moving violations in a CMV.

Howard D. Barton

Mr. Barton, 64, has a retinal hole in his left eye due to a traumatic incident in 2009. The visual acuity in his right eye is 20/20, and in his left eye, 20/100. Following an examination in 2015, his optometrist stated, “It is my professional opinion that Mr. Barton has more than sufficient vision to perform the driving tasks required to operate a commercial vehicle.” Mr. Barton reported that he has driven straight trucks for 2 years, accumulating 100,000 miles and tractor-trailer combinations for 46 years, accumulating 5.52 million miles. He holds a Class A CDL from Indiana. His driving record for the last 3 years shows no crashes and one conviction for a moving violation in a CMV; he exceeded the speed limit by 10 miles per hour.

Bryan Borrowman

Mr. Borrowman, 50, has had a chorioretinal scar in his right eye since 2011. The visual acuity in his right eye is 20/100, and in his left eye, 20/20. Following an examination in 2015, his optometrist stated, “Patient's left visual field compensates well for his right visual field defect and should not have any problems operating a commercial vehicle.” Mr. Borrowman reported that he has driven tractor-trailer combinations for 9 years, accumulating 1.35 million miles. He holds a Class A CDL from Utah. His driving record for the last 3 years shows no crashes and no convictions for moving violations in a CMV.

George R. Cornell

Mr. Cornell, 53, has had a retinal detachment in his left eye in 2010. The visual acuity in his right eye is 20/20, and in his left eye, no light perception. Following an examination in 2015, his optometrist stated, “Vision sufficient for commercial vehicle.” Mr. Cornell reported that he has driven straight trucks for 5 years, accumulating 50,000 miles, tractor-trailer combinations for 22 years, accumulating 1.1 million miles. He holds a Class A CDL from Ohio. His driving record for the last 3 years shows no crashes and no convictions for moving violations in a CMV.

Mr. Bruce J. Dowd

Mr. Dowd, 60, has been blind in his right eye due to a traumatic incident in 1964. The visual acuity in his right eye is no light perception, and in his left eye, 20/15. Following an examination in 2015, his optometrist stated, “I certify in my medical opinion that Bruce has sufficient vision to perform the driving tasks required to operate a heavy vehicle under 26,001 as he has for the past twenty years.” Mr. Dowd reported that he has driven straight trucks for 44 years, accumulating 1 million miles. He holds a Class D operator's license from Connecticut. His driving record for the last 3 years shows no crashes and no convictions for moving violations in a CMV.

Raul A. Gonzalez

Mr. Gonzalez, 46, has optic atrophy in his left eye due to a traumatic incident in childhood. The visual acuity in his right eye is 20/20, and in his left eye, 20/400. Following an examination in 2015, his optometrist stated, “He has been functioning successfully as a commercial driver for many years and nothing has changed to date. He has proven his ability to continue to function as a driver and we believe his vision is adequate for that purposes [sic].” Mr. Gonzalez reported that he has driven tractor-trailer combinations for 25 years, accumulating 1.94 million miles. He holds a Class A CDL license from California. His driving record for the last 3 years shows no crashes and one conviction for a moving violation in a CMV; he was cited for stopping on a non-emergency shoulder.

Calvin N. Gregory, Jr.

Mr. Gregory, 65, has had amblyopia in his right eye since childhood. The visual acuity in his right eye is 20/200, and in his left eye, 20/20. Following an examination in 2015, his optometrist stated, “Stable amblyopia . . . no impact on horizontal or vertical visual field . . . OK to operate a commercial vehicle.” Mr. Gregory, reported that he has driven straight trucks for 44 years, accumulating 4.4 million miles. He holds a Class A CDL from Maryland. His driving record for the last 3 years shows no crashes and no convictions for moving violations in a CMV.

Thomas E. Gross

Mr. Gross, 59, has a prosthetic left eye due to a traumatic incident over 45 years ago. The visual acuity in his right eye is 20/20, and in his left eye, no light perception. Following an examination in 2015, his ophthalmologist stated, “I certainly certify that in my professional medical opinion that he has as he has had in the past sufficient vision to perform the driving tasks required to operate a commercial vehicle as he has in the past.” Mr. Gross reported that he has driven straight trucks for 40 years, accumulating 200,000 miles. He holds a Class C operator's license from Pennsylvania. His driving record for the last 3 years shows no crashes and no convictions for moving violations in a CMV.

Ethan A. Hale

Mr. Hale, 24, has had a prosthetic left eye due to a traumatic incident in 2005. The visual acuity in his right eye is 20/15, and in his left eye, no light perception. Following an examination in 2015, his optometrist stated, “The applicant was found to be visually able to safely operate a commercial motor vehicle.” Mr. Hale reported that he has driven straight trucks for 4 years, accumulating 80,000 miles. He holds a Class DA CDL from Kentucky. His driving record for the last 3 years shows no crashes and one conviction for a moving violation in a CMV; he was cited for speeding.

Steven G. Hall

Mr. Hall, 47, has had a macular hole in his left eye since 1990. The visual acuity in his right eye is 20/20, and in his left eye, 20/400. Following an examination in 2015, his optometrist stated, “In my professional and medical opinion, Mr. Steven Hall has sufficient vision to perform the driving tasks required to operate a commercial vehicle.” Mr. Hall reported that he has driven straight trucks for 3 years, accumulating 234,000 miles, and tractor-trailer combinations for 5 years, accumulating 390,000 miles. He holds a Class A CDL from North Carolina. His driving record for the last 3 years shows no crashes and no convictions for moving violations in a CMV.

Jason F. Huddleston

Mr. Huddleston, 40 has glaucoma in his right eye due to a traumatic incident in 2003. The visual acuity in his right eye is 20/400, and in his left eye, 20/20. Following an examination in 2015, his optometrist stated, “I certify in my medical opinion that Mr. Jason Huddleston has sufficient vision to perform the driving tasks required to operate a commercial vehicle.” Mr. Huddleston reported that he has driven straight trucks for 17 years, accumulating 208,080 miles. He holds a Class C operator's license from Texas. His driving record for the last 3 years shows no crashes and no convictions for moving violations in a CMV.

David A. Luke

Mr. Luke, 60, has complete loss of vision due to a traumatic incident in his right eye since childhood. The visual acuity in his right eye is no light perception, and in his left eye, 20/20. Following an examination in 2015, his optometrist stated, “I have no problem with his ability to see adequately to drive a commercial vehicle.” Mr. Luke reported that he has driven straight trucks for 44 years, accumulating 22,000 miles, and tractor-trailer combinations for 7 years, accumulating 252,000 miles. He holds a Class A CDL from Nebraska. His driving record for the last 3 years shows no crashes and no convictions for moving violations in a CMV.

Raymond J. Mannarino

Mr. Mannarino, 68, has had a macular pucker in his left eye since 1995. The visual acuity in his right eye is 20/30, and in his left eye, 20/80. Following an examination in 2015, his ophthalmologist stated, “Certify that as per above, pt [sic] has sufficient vision to perform commercial driving.” Mr. Mannarino reported that he has driven straight trucks for 40 years, accumulating 80,000 miles and tractor-trailer combinations for 30 years, accumulating 1.2 million miles. He holds a Class A CDL from New York. His driving record for the last 3 years shows no crashes and no convictions for moving violations in a CMV.

Samuel T. Mazza, Jr.

Mr. Mazza, Jr., 35, has had dense anisometropic amblyopia in his left eye since childhood. The visual acuity in his right eye is 20/20, and in his left eye, 20/400. Following an examination in 2015, his optometrist stated, “Samuel's visual status is stable and unchanged since I first saw him in 2010, and in my opinion, he is fit to drive a commercial motor vehicle.” Mr. Mazza reported that he has driven straight trucks for 11 years, accumulating 110,000 miles, tractor-trailer combinations for 11 years, accumulating 220,000 miles. He holds a Class A CDL from Connecticut. His driving record for the last 3 years shows no crashes and no convictions for moving violations in a CMV.

Ralph S. Miller

Mr. Miller, 59, has had a prosthetic right eye due to ocular melanoma since 1998. The visual acuity in his right eye is no light perception, and in his left eye, 20/20. Following an examination in 2015, his optometrist stated, “It is my opinion that Mr. Miller has sufficient vision to operate a commercial vehicle.” Mr. Miller reported that he has driven straight trucks for 35 years, accumulating 350,000 miles. He holds a Class B CDL from West Virginia. His driving record for the last 3 years shows no crashes and no convictions for moving violations in a CMV.

John M. Moore

Mr. Moore, 55, has had amblyopia in his right eye since childhood. The visual acuity in his right eye is 20/400, and in his left eye, 20/20. Following an examination in 2015, his optometrist stated, “This patient has stable longstanding (since childhood) amblyopia in his right eye . . . he has sufficient vision to perform the tasks required to operate a commercial vehicle.” Mr. Moore reported that he has driven straight trucks for 35 years, accumulating 875,000 miles, and tractor-trailer combinations for 35 years, accumulating 35,000 miles. He holds a Class A CDL from Pennsylvania. His driving record for the last 3 years shows no crashes and no convictions for moving violations in a CMV.

Samuel M. Mosman

Mr. Mosman, 33, has a retinal scar in his left eye due to a traumatic incident in 2007. The visual acuity in his right eye is 20/20, and in his left eye, 20/200. Following an examination in 2015, his ophthalmologist stated, “Mr. Mosman's Visual [sic] acuity has been stable since June 2007 . . . Mr. Mosman states that he has driven a commercial vehicle for 9 years and I believe there is nothing to interfere with his future driving.” Mr. Mosman reported that he has driven straight trucks for 10 years, accumulating 400,000 miles and tractor-trailer combinations for 8 years, accumulating 520,000 miles. He holds a Class A CDL license from Washington. His driving record for the last 3 years shows no crashes and no convictions for moving violations in a CMV.

Josh D. Nichols

Mr. Nichols, 37, had his left eye enucleated due to a traumatic incident in 1993. The visual acuity in his right eye is 20/20, and in his left eye, no light perception. Following an examination in 2015, his optometrist stated, “It is my professional opinion that Joshua D [sic] Nichols possesses sufficient vision to perform the driving tasks required to operate a commercial motor vehicle.” Mr. Nichols reported that he has driven straight trucks for 15 years, accumulating 450,000 miles. He holds an operator's license from Illinois. His driving record for the last 3 years shows no crashes and no convictions for moving violations in a CMV.

John P. Pitts

Mr. Pitts, 61, has vision loss in his left eye due to ocular nerve damage in 2009. The visual acuity in his right eye is 20/20, and in his left eye, counting fingers. Following an examination in 2015, his optometrist stated, “In my opinion, John Pitts has sufficient vision to operate a commercial vehicle.” Mr. Pitts reported that he has driven straight trucks for 4 years, accumulating 10,000 miles and tractor-trailer combinations for 30 years, accumulating 3 million miles. He holds an operator's license from Arizona. His driving record for the last 3 years shows no crashes and no convictions for moving violations in a CMV.

Alexander L. Resh

Mr. Resh, 24, had an infection and subsequent complete loss of vision in his right eye due to a traumatic incident in 2013. The visual acuity in his right eye is no light perception, and in his left eye, 20/20. Following an examination in 2015, his optometrist stated, “He has excellent vision in his left eye and should have no difficulty operating a commercial vehicle.” Mr. Resh reported that he has driven straight trucks for 7 years, accumulating 84,000 miles. He holds a Class C operator's license from Pennsylvania. His driving record for the last 3 years shows no crashes and no convictions for moving violations in a CMV.

August Roberts, Jr.

Mr. Roberts, 68, has had macular degeneration in his left eye since 2010. The visual acuity in his right eye is 20/20, and in his left eye, 20/50. Following an examination in 2015, his optometrist stated, “I, Yen Le, OD, certify that Mr. August Roberts have [sic] sufficient vision to perform the driving tasks required to operate a commercial vehicle.” Mr. Roberts reported that he has driven straight trucks for 43 years, accumulating 645,000 miles. He holds a Class A CDL from North Carolina. His driving record for the last 3 years shows no crashes and no convictions for moving violations in a CMV.

Phillip D. Satterfield

Mr. Satterfield, 51, has had toxoplasmosis in his left eye since birth. The visual acuity in his right eye is 20/20, and in his left eye, 20/200. Following an examination in 2015, his optometrist stated, “It is my medical opinion the above-referenced patient does have sufficient vision to operate a commercial vehicle.” Mr. Satterfield reported that he has driven tractor-trailer combinations for 30 years, accumulating 315,000 miles. He holds a Class A CDL from Georgia. His driving record for the last 3 years shows no crashes and no convictions for moving violations in a CMV.

Fred Schmidt

Mr. Schmidt, 58, has had a prosthetic left eye due to a traumatic incident at age 11. The visual acuity in his right eye is 20/20, and in his left eye, no light perception. Following an examination in 2015, his optometrist stated, “In my opinion, this patient has sufficient vision to perform the driving tasks required to operate a commercial vehicle.” Mr. Schmidt reported that he has driven straight trucks for 40 years, accumulating 800,000 miles, tractor-trailer combinations for 30 years, accumulating 900,000 miles. He holds a Class AM CDL from Illinois. His driving record for the last 3 years shows no crashes and no convictions for moving violations in a CMV.

Robert L. Simpson

Mr. Simpson, 54, has had optic nerve atrophy in his right eye since 2012 due to a pituitary tumor. The visual acuity in his right eye is 20/200, and in his left eye, 20/20. Following an examination in 2015, his ophthalmologist stated, “He does see well enough to drive a commercial vehicle.” Mr. Simpson reported that he has driven straight trucks for 1 year, accumulating 80,000 miles, tractor-trailer combinations for 15 years, accumulating 1.5 million miles. He holds a Class A CDL from North Carolina. His driving record for the last 3 years shows no crashes and no convictions for moving violations in a CMV.

Franklin Tso

Mr. Tso, 72, has had a corneal scar in his right eye since childhood. The visual acuity in his right eye is 20/80, and in his left eye, 20/30. Following an examination in 2015, his ophthalmologist stated, “In my professional opinion Mr. Tso has sufficient vision to perform the driving tasks required to operate a commercial vehicle.” Mr. Tso reported that he has driven straight trucks for 56 years, accumulating 3.4 million miles. He holds an operator's license from New Mexico. His driving record for the last 3 years shows no crashes and 1 conviction for a moving violation in a CMV; he exceeded the speed limit by 7 mph.

Keith D. Turnbow

Mr. Turnbow, 61, has had amblyopia in his left eye since childhood. The visual acuity in his right eye is 20/20, and in his left eye, 20/400. Following an examination in 2015, his optometrist stated, “Vision is sufficient to operate a commercial vehicle.” Mr. Turnbow reported that he has driven straight trucks for 41 years, accumulating 1.23 million miles and tractor-trailer combinations for 13 years, accumulating 1.3 million miles. He holds a Class A CDL from Missouri. His driving record for the last 3 years shows no crashes and no convictions for moving violations in a CMV.

James L. Urbach

Mr. Urbach, 45, has had a chronic rhegmatagenous retinal detachment in his left eye since 2011. The visual acuity in his right eye is 20/15, and in his left eye, 20/60. Following an examination in 2015, his ophthalmologist stated, “It is my medical opinion that Mr. Urbach possesses sufficient vision to perform the driving tasks necessary to operate a commercial vehicle.” Mr. Urbach reported that he has driven tractor-trailer combinations for 10 years, accumulating 1.13 million miles. He holds a Class A CDL from Pennsylvania. His driving record for the last 3 years shows no crashes and no convictions for moving violations in a CMV.

Eric C. Weidley

Mr. Weidley, 39, has had optic neuritis in his right eye since 2009. The visual acuity in his right eye is no light perception, and in his left eye, 20/20. Following an examination in 2015, his ophthalmologist stated, “In my medical opinion, you have sufficient vision and experience to perform the driving tasks required to operate a commercial vehicle.” Mr.Weidley reported that he has driven straight trucks for 16 years, accumulating 640,000 miles. He holds a Class CM operator's license from Pennsylvania. His driving record for the last 3 years shows no crashes and no convictions for moving violations in a CMV.

Jackie G. Wells

Mr. Wells, 65, has had amblyopia in his right eye since childhood. The visual acuity in his right eye is 20/80, and in his left eye, 20/20. Following an examination in 2015, his optometrist stated, “I feel Mr. Wells has sufficient vision to perform the driving tasks required to operate a commercial vehicle due to the fact that he is able to see 20/20 with both eyes open and has full visual fields in each eye.” Mr. Wells reported that he has driven straight trucks for 20 years, accumulating 160,000 miles. He holds an operator's license from Virginia. His driving record for the last 3 years shows no crashes and no convictions for moving violations in a CMV.

Charles T. Whitehead

Mr. Whitehead, 66, has had hyperopic astigmatism and refractive amblyopia in his right eye since birth. The visual acuity in his right eye is 20/70, and in his left eye, 20/25. Following an examination in 2015, his optometrist stated, “Mr. Whitehead is diagnosed with Hyperopic Astigmatism and Refractive Amblyopia [sic] of the right eye that he has had since birth. It is my opinion that Mr. Whitehead is capable of operating a commercial vehicle.” Mr. Whitehead reported that he has driven tractor-trailer combinations for 43 years, accumulating 3.4 million miles. He holds a Class A CDL from North Carolina. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2015-0344 in the “Keyword” box, and click “Search. When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number FMCSA-2015-0344 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: November 30, 2015.
Larry W. Minor,
Associate Administrator for Policy.

[FR Doc. 2015-30863 Filed 12-7-15; 8:45 am]

BILLING CODE 4910-EX-P